DEPARTMENT OF TRANSPORTATION

National Highway Traffic Safety Administration

49 CFR Part 579

[Docket No. NHTSA 2001-8677; Notice 13]

Reporting of Information and Documents About Potential Defects; Correction

AGENCY: National Highway Traffic Safety Administration (NHTSA), DOT.

ACTION: Correcting amendment.

SUMMARY: This document contains a correction to the due dates of reports under the early warning reporting rule.

DATES: This final rule is effective January 12, 2005.

FOR FURTHER INFORMATION CONTACT: Leo Yon, Office of Defects Investigation, NHTSA (phone: 202-366-5226).

SUPPLEMENTARY INFORMATION:

I. Background

On July 10, 2002, NHTSA published a final rule implementing the early warning reporting (EWR) provisions of the Transportation Recall Enhancement, Accountability, and Documentation (TREAD) Act, 49 U.S.C. 30166(m). 67 FR 45822. The agency has adopted a number of amendments to that rule. As of October 1, 2003, 49 CFR 579.28(b) Due date of reports read as follows:

Except as provided in paragraph (n) of this section, each manufacturer of motor vehicles and motor vehicle equipment shall submit each report that is required by this subpart not later than 30 days after the last day of the reporting period. Notwithstanding the prior sentence, the due date for reports covering the third and fourth calendar quarter of 2003 and the first calendar quarter of 2004 shall be 60 days after the last day of the reporting period. Except as provided in § 579.27(b), if a manufacturer has not received any of the categories of information or documents during a quarter for which it is required to report pursuant to §§ 579.21 through 579.26, the manufacturer's report must indicate that no relevant information or documents were received during that quarter. If the due date for any report is a Saturday, Sunday or a Federal holiday, the report shall be due on the next business day.

A September 28, 2004 notice amended the first two sentences of § 579.28(b) by extending the due date by which quarterly reports are to be submitted to the agency from 30 days to 60 days following the end of a calendar quarter and changing the date by which copies of non-dealer field reports were to be submitted from 30 days after the quarterly reports were due to 15 days after those reports are due. 69 FR 57867. After publishing the September 28th notice, we learned that we had inadvertently deleted the last two sentences of section 579.28(b). We had not intended to delete this language.

Today's amendment corrects this error by re-inserting the last 2 sentences of § 579.28(b). In particular, the language is:

Except as provided in § 579.27(b), if a manufacturer has not received any of the categories of information or documents during a quarter for which it is required to report pursuant to §§ 579.21 through 579.26, the manufacturer's report must indicate that no relevant information or documents were received during that quarter. If the due date for any report is a Saturday, Sunday or a Federal holiday, the report shall be due on the next business day.

List of Subjects in 49 CFR Part 579

Imports, Motor vehicle safety, Motor vehicles, Reporting and recordkeeping requirements.

Accordingly, 49 CFR Part 579 is corrected by making the following correcting amendment.

PART 579—REPORTING OF INFORMATION AND COMMUNICATIONS ABOUT POTENTIAL DEFECTS

1. The authority citation for part 579 continues to read as follows:

Authority: Sec. 3, Pub. L. 106-414, 114 Stat. 1800 (49 U.S.C. 30102-103, 30112, 30117-121, 30166-167); delegation of authority at 49 CFR 1.50.

Subpart C—Reporting of Early Warning Information

2. In § 579.28, revise paragraph (b) to read as follows:

§ 579.28 Due date of reports and other miscellaneous provisions.

* * * * *

(b) Due date of reports. Except as provided in subsection (n) of this section, each manufacturer of motor vehicles and motor vehicle equipment shall submit each report that is required by this subpart not later than 60 days after the last day of the reporting period. Except as provided in § 579.27(b), if a manufacturer has not received any of the categories of information or documents during a quarter for which it is required to report pursuant to §§ 579.21 through 579.26, the manufacturer's report must indicate that no relevant information or documents were received during that quarter. If the due date for any report is a Saturday, Sunday or a Federal holiday, the report shall be due on the next business day.

* * * * *

Issued on: January 3, 2005.
Kenneth N. Weinstein,
Associate Administrator for Enforcement.

[FR Doc. 05-532 Filed 1-11-05; 8:45 am]

BILLING CODE 4910-59-P